DEPARTMENT OF EDUCATION

National Assessment Governing Board; Meeting

AGENCY: National Assessment Governing Board, Department of Education.

ACTION: Notice of Open Meeting and Partially Closed Sessions.

SUMMARY: The notice sets forth the schedule and proposed agenda of a forthcoming meeting of the National Assessment Governing Board. This notice also describes the functions of the Board. Notice of this meeting is required under Section 10 (a) (2) of the Federal Advisory Committee Act. This document is intended to notify members of the general public of their opportunity to attend. Individuals who will need special accommodations in order to attend the meeting (e.g.: interpreting services, assistive listening devices, materials in alternative format) should notify Munira Mwalimu at 202-357-6938 or at Munira.Mwalimu@ed.gov no later than November 5, 2010. We will attempt to meet requests after this date, but cannot guarantee availability of the requested accommodation. The meeting site is accessible to individuals with disabilities.

DATES: November 18-20, 2010.

Times

November 18: Committee Meetings

Assessment Development Committee: Open Session—12:00 p.m-1:00 p.m..; Closed Session 1:00 p.m. to 4:15 p.m.

Executive Committee: Open Session—4:30 p.m. to 5:15 p.m.; Closed Session—5:15 p.m. to 6:00 p.m.

November 19

Full Board: Open Session—8:15 a.m. to 9:45 a.m.; Closed Session—12:45 p.m. to 1:45 p.m.; Open Session—1:45 p.m. to 4:45 p.m.

Committee Meetings

Assessment Development Committee: Open Session—10:00 a.m. to 12:00 p.m.; Closed Session—12:00 p.m. to 12:30 p.m.;

Committee on Standards, Design and Methodology: Open Session—10:00 a.m. to 12:30 p.m.

Reporting and Dissemination Committee: Open Session—10:00 a.m. to 12:30 p.m.

November 20

Nominations Committee: Closed Session—7:30 a.m. to 8:15 a.m.

Full Board: Open Session—8:30 a.m. to 12:00 noon.

Location: Westin Arlington Gateway, 801 North Glebe Road, Arlington, VA 22203.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include the following: Selecting subject areas to be assessed, developing assessment frameworks and specifications, developing appropriate student achievement levels for each grade and subject tested, developing standards and procedures for interstate and national comparisons, developing guidelines for reporting and disseminating results, and releasing initial NAEP results to the public.

On November 18, from 1:00 p.m. to 4:15 p.m., the Assessment Development Committee will meet in closed session to review secure task outlines for test items for the new NAEP Technology and Engineering Literacy (TEL) Assessment. These task outlines are for the computer-based 8th grade 2013 pilot test in preparation for the 2014 operational assessment. The Board will be provided with secure test materials for review that cannot be discussed in an open meeting. Premature disclosure of these secure materials would significantly impede implementation of the NAEP assessments, and is therefore protected by exemption 9(B) of section 552b(c) of Title 5 U.S.C.

On November 18, from 4:30 p.m. to 5:15 p.m., the Executive Committee will meet in open session and thereafter in closed session from 5:15 p.m. to 6:00 p.m. During the closed session on November 18, the Executive Committee will receive a briefing from the National Center for Education Statistics (NCES) on options for NAEP contracts covering assessment years beyond 2011 and discuss budget implications for the NAEP assessment schedule and for international linking studies. The discussion of contract options and costs will address the Congressionally mandated goals and Board policies on NAEP assessments. This part of the meeting must be conducted in closed session because public discussion of this information would disclose independent government cost estimates and contracting options, adversely impacting the confidentiality of the contracting process. Public disclosure of information discussed would significantly impede implementation of the NAEP contracts, and is therefore protected by exemption 9(B) of section 552b(c) of Title 5 U.S.C.

On November 19, the full Board will meet in open session from 8:15 a.m. to 9:45 a.m. The Board will review and approve the meeting agenda and meeting minutes from the August 2010 Board meeting, followed by the Chairman's remarks. Secretary Arne Duncan is scheduled to administer the oath of office for new Board members at 8:30 a.m. followed by remarks from new Board members. The Executive Director of the Governing Board will then provide a report to the Board followed by an update from the Acting Commissioner of the National Center for Education Statistics. The Board will recess for Committee meetings on November 19 from 10:00 a.m. to 12:30 p.m.

The Reporting and Dissemination Committee and the Committee on Standards, Design and methodology will meet in open session on November 19 from 10:00 a.m. to 12:00 p.m. The Assessment Development Committee will meet in open session from 10:00 a.m. to 12:00 p.m. and thereafter in closed session from 12:00 p.m. to 12:30 p.m. During the closed session, the Assessment Development Committee will receive an embargoed briefing on preliminary results from the writing computer-based 2010 pilot test at grades 8 and 12 in preparation for the 2011 operational assessment. This secure data cannot be discussed in an open meeting prior to official release. Premature disclosure of data would significantly impede implementation of the NAEP assessment, and is therefore protected by exemption 9(B) of section 552b(c) of Title 5 U.S.C.

On November 19, from 12:45 p.m. to 1:45 p.m. the full Board will meet in closed session to receive a briefing on the 2009 National Assessment of Educational Progress (NAEP) Science Report Card. The Board will be provided with embargoed results that cannot be discussed in an open meeting prior to their official release. Premature disclosure of data would significantly impede implementation of the NAEP assessment, and is therefore protected by exemption 9(B) of section 552b(c) of Title 5 U.S.C.

From 1:45 p.m. to 2:30 p.m. the Board will meet in open session to receive a report from the Governing Board/Council of Chief State School Officers Policy Task Force. Following this session, from 2:30 p.m. to 3:30 p.m., the Board will receive presentations by the two State assessment consortia working on the Common Core State Standards and Assessments. From 3:45 p.m. to 4:15 p.m., the Board will receive an update on 12th Grade Preparedness Research. At 4:15 p.m., Board members will receive their annual ethics briefing from the Office of General Counsel. The November 19, 2010 Board meeting is scheduled to conclude at 4:45 p.m.

On November 20, the Nominations Committee will meet in closed session from 7:30 a.m. to 8:15 a.m. to review and discuss specific names for Board vacancies, and their qualifications for Board membership for Board terms beginning October 1, 2011. These discussions pertain solely to internal personnel rules and practices of an agency and will disclose information of a personal nature where disclosure would constitute an unwarranted invasion of personal privacy. As such, the discussions are protected by exemptions 2 and 6 of section 552b(c) of Title 5 U.S.C.

The full Board will meet in closed session on November 20 from 8:30 a.m. to 9:45 a.m. to receive a briefing on the 2011 NAEP Computer-Based Writing Assessment, which will contain secure test information. Premature disclosure of the assessment items and the pilot test results would significantly impede implementation of the NAEP assessment, and is therefore protected by exemption 9(B) of section 552b(c) of Title 5 U.S.C.

Thereafter, the Board will meet in open session to discuss the Future of the Governing Board and NAEP. At 11:00 a.m. the Board will receive Committee reports and take action on Committee recommendations. The November 20, 2010 session of the Board meeting is scheduled to adjourn at 12 noon.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9:00 a.m. to 5:00 p.m. Eastern Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-866-512-1800; or in the Washington, DC area at (202) 512-0000.

Note: The official version of this document is the document published in the Federal Register. Free Internet access to the official edition of the Federal Register and the Code of Federal Regulations is available on GPO Access at: http://www.gpoaccess.gov/nara/index.html.

Dated: October 29, 2010.
Mary Crovo,
Deputy Executive Director, National Assessment Governing Board, U.S. Department of Education.

[FR Doc. 2010-27754 Filed 11-2-10; 8:45 am]

BILLING CODE 4000-01-P